DEPARTMENT OF HEALTH AND HUMAN SERVICES

Centers for Disease Control and Prevention

[30Day-08-07AP]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Preventive Medicine Residency and Fellowship Program Evaluation—New—Office of Workforce and Career Development (OWCD), Centers for Disease Control and Prevention (CDC).

Background and Brief Description

Preventive medicine is a specialized field of medical practice that works with large populations to promote good health; to prevent disease, injury and disability; and to facilitate early diagnosis and treatment of illness. It is unique because its central focus is population health. Despite the nation's growing need for preventive-medicine skills, numerous studies have demonstrated an increasing shortage of preventive medicine-trained professionals, and that shortage is projected to continue (American College of Preventive Medicine; Council on Graduate Medical Education). The specialty will benefit from attracting new residents, rewarding programs that fill positions with highly qualified candidates, and expanding the specialty into new medical leadership roles (Ducatman, et al., 2005).

The mission of CDC's Preventive Medicine Residency and Fellowship (PMR/F) is to (1) train public health and preventive medicine leaders, and (2) maintain leadership in the field of preventive medicine training. CDC's PMR/F has been training physicians in the residency since 1972 and veterinarians in the fellowship since 1983. PMR/F consists of a competency-based curriculum, a one-year practicum, and sponsorship for a Master of Public Health degree for qualified applicants before the practicum year. PMR/F provides its residents and fellows with training and experience in leadership, management, program development and evaluation, and the translation of epidemiology to public health practice.

During the past 15 years, the CDC PMR/F has adapted its educational plan and design in response to changing public health needs, feedback from trainees and stakeholders, internal reviews of the residency, changes in Accreditation Council for Graduate Medical Education (ACGME) requirements, and a formal national survey of Preventive Medicine Residency graduates conducted by CDC in 1991. The last formal evaluation of the program occurred as part of the 1991 survey.

CDC proposes a new project to evaluate the PMR/F. The goals of the evaluation are to determine: (1) How well PMR/F is fulfilling its mission to train competent public health practitioners and leaders, (2) the effectiveness of the PMR/F educational program, and (3) PMR/F's contribution to its residents and fellows, the CDC, and the larger public health community.

As part of this project, PMR/F practicum alumni and a matched group of physicians and veterinarians who were eligible to apply to PMR/F will be asked to complete a questionnaire to provide information that addresses the evaluation's goals. Below is a description of the questionnaire's response burden.

There is no cost to the respondents other than their time. The estimated annualized burden hours are 16.

Estimate of Annualized Burden Hours
Type of respondents | Number of respondents | Number of responses per respondent | Average burden per response
Study Group Physicians | 8 | 1 | 30/60
Reference Group Physicians | 17 | 1 | 30/60
Study Group Veterinarians | 2 | 1 | 30/60
Reference Group Veterinarians | 3 | 1 | 30/60

Dated: January 30, 2008.
Maryam Daneshvar,
Acting Reports Clearance Officer, Centers for Disease Control and Prevention.

[FR Doc. E8-2213 Filed 2-6-08; 8:45 am]

BILLING CODE 4163-18-P